NUCLEAR REGULATORY COMMISSION

[Docket No. 72-22-ISFSI]

In the Matter of Private Fuel Storage, L.L.C. (Independent Spent Fuel Storage Installation); Notice of Appointment of Adjudicatory Employee

Commissioners: Richard A. Meserve, Chairman, Greta J. Dicus, Nils J. Diaz, Edward McGaffigan, Jr., Jeffrey S. Merrifield.

Pursuant to 10 CFR 2.4, notice is hereby given that Mr. Andrew Murphy, Seismologist, Office of Research, has been appointed as a Commission adjudicatory employee within the meaning of section 2.4, to advise the Commission regarding issues relating to the pending referred and certified ruling in the Matter of Private Fuel Storage, L.L.C., LBP-01-03. Mr. Murphy has not previously performed any investigative or litigating function in connection with this or any related proceeding. Until such time as a final decision is issued in this matter, interested persons outside the agency and agency employees performing investigative or litigating functions in this proceeding are required to observe the restrictions of 10 CFR 2.780 and 2.781 in their communications with Mr. Murphy.

It Is So Ordered.

For the Commission.
Dated at Rockville, Maryland, this 21st day of March, 2001.
Annette L. Vietti-Cook,
Secretary of the Commission.

[FR Doc. 01-7506 Filed 3-26-01; 8:45 am]

BILLING CODE 7590-01-P